SMALL BUSINESS ADMINISTRATION

[Declaration of Disaster #3496]

State of Kansas; (Amendment #1)

In accordance with a notice received from the Department of Homeland Security—Federal Emergency Management Agency, effective May 14, 2003, the above numbered declaration is hereby amended to include Anderson, Douglas, Osage, and Woodson Counties in the State of Kansas as disaster areas due to damages caused by severe storms, tornadoes and flooding occurring on May 4, 2003 and continuing.

In addition, applications for economic injury loans from small businesses located in the contiguous counties of Coffey, Greenwood, Lyon, Shawnee and Wabaunsee in the State of Kansas may be filed until the specified date at the previously designated location. All other counties contiguous to the above named primary county have been previously declared.

All other information remains the same, i.e., the deadline for filing applications for physical damage is July 7, 2003, and for economic injury the deadline is February 6, 2004.

(Catalog of Federal Domestic Assistance Program Nos. 59002 and 59008).
Dated: May 15, 2003.
Herbert L. Mitchell,
Associate Administrator for Disaster Assistance.

[FR Doc. 03-12751 Filed 5-20-03; 8:45 am]

BILLING CODE 8025-01-P